DEPARTMENT OF HEALTH AND HUMAN SERVICES

National Institutes of Health

National Institute of Environmental Health Sciences; Request for Nominations for Voting Members To Serve on the National Institutes of Health (NIH), National Institute of Environmental Health Sciences' (NIEHS) Interagency Breast Cancer and Environmental Research Coordinating Committee

SUMMARY: The National Institute of Environmental Health Sciences of the National Institutes of Health is requesting nominations for members to serve on the Interagency Breast Cancer and Environmental Research Coordinating Committee. This Committee will coordinate information on existing activities related to breast cancer and environmental research and make recommendations to the National Institutes of Health and other Federal agencies on how to improve existing research programs.

DATES: Nominations received on or before December 1, 2009 will be considered in a pool of candidates gathered from numerous sources for membership on the Committee. Nominations received after December 1, 2009 will be considered for future vacancies.

ADDRESSES: All nominations for membership should be sent to the contact person listed in the FOR FURTHER INFORMATION CONTACT section of this document.

FOR FURTHER INFORMATION CONTACT: Jennifer Collins, Division of Extramural Research and Training, National Institute of Environmental Health Sciences, P.O. Box 12233, MD K3-12, RTP, NC 27709, Phone: 919-541-0117, FAX: 919-316-4606, E-mail: collins6@niehs.nih.gov.

I. Function of the Interagency Breast Cancer and Environmental Research Coordinating Committee

The Committee will (1) share and coordinate information on existing research activities, and make recommendations to the National Institutes of Health and other Federal agencies regarding how to improve existing research programs, that are related to breast cancer research; (2) develop a comprehensive strategy and advise the NIH and other Federal agencies in the solicitation of proposals for collaborative, multidisciplinary research, including proposals to evaluate environmental and genomic factors that may be related to the etiology of breast cancer; (3) develop a summary of advances in breast cancer research supported or conducted by Federal agencies relevant to the diagnosis, prevention, and treatment of cancer and other diseases and disorders; and (4) make recommendations to the Secretary regarding any appropriate changes to research activities, to ensure that federal research activities are free of unnecessary duplication of effort, regarding public participation in decisions relating to breast cancer research to increase the involvement of patient advocacy and community organizations representing a broad geographical area, on how best to disseminate information on breast cancer research progress, and how to expand partnerships between public and private entities to expand collaborative, cross-cutting research.

II. Criteria for Voting Members

A. Scientists, Physicians, and Other Health Professionals

Committee Members will include scientists, physicians, and health professionals who are not officers or employees of the United States; represent multiple disciplines, including clinical, basic, and public health sciences; represent different geographical regions of the United States; are from practice settings, academia, or other research settings; and are experienced in the scientific peer review process.

B. Other Public Members

Committee Members will also include members of the general public, who represent individuals with breast cancer.

III. Nomination Procedures

Any interested person may nominate one or more qualified persons for membership on the Interagency Breast Cancer and Environmental Research Coordinating Committee. Self-nominations are also accepted. In an effort to ensure that women, minority groups, and individuals with disabilities are adequately represented on advisory committees, NIEHS encourages nominations of qualified candidates from these groups. Nominations must include a current resume or curriculum vitae of each nominee, including current business address, telephone number, and email address, and a brief explanation of the nominee's qualifications for the committee. Experience and activity on boards, committees, and/or membership in advocacy groups dealing with breast cancer and the environment, participation in the review process for federal programs, and/or involvement with programs regarding the support of scientific research in this area should be indicated. Nominations must also acknowledge that the nominee is aware of the nomination, is willing to serve as a member, and appears to have no conflict of interest that would preclude membership. NIEHS will ask the potential candidates to provide detailed information concerning matters related to financial holdings, employment, and research grants and/or contracts.

Dated: October 8, 2009.
Jennifer Spaeth,
Director, Office of Federal Advisory Committee Policy.

[FR Doc. E9-24969 Filed 10-15-09; 8:45 am]

BILLING CODE 4140-01-P